DEPARTMENT OF HOMELAND SECURITY

U.S. Customs and Border Protection

Quarterly IRS Interest Rates Used in Calculating Interest on Overdue Accounts and Refunds of Customs Duties

AGENCY: U.S. Customs and Border Protection, Department of Homeland Security.

ACTION: General notice.

SUMMARY: This notice advises the public that the quarterly Internal Revenue Service interest rates used to calculate interest on overdue accounts (underpayments) and refunds (overpayments) of customs duties will remain the same from the previous quarter. For the calendar quarter beginning January 1, 2024, the interest rates for underpayments will be 8 percent for both corporations and non-corporations. The interest rate for overpayments will be 8 percent for non-corporations and 7 percent for corporations. This notice is published for the convenience of the importing public and U.S. Customs and Border Protection personnel.

DATES: The rates announced in this notice are applicable as of January 1, 2024.

FOR FURTHER INFORMATION CONTACT: Bruce Ingalls, Revenue Division, Collection Refunds & Analysis Branch, 6650 Telecom Drive, Suite #100, Indianapolis, Indiana 46278; telephone (317) 298-1107.

SUPPLEMENTARY INFORMATION:

Background

Pursuant to 19 U.S.C. 1505 and Treasury Decision 85-93, published in the Federal Register on May 29, 1985 (50 FR 21832), the interest rate paid on applicable overpayments or underpayments of customs duties must be in accordance with the Internal Revenue Code rate established under 26 U.S.C. 6621 and 6622. Section 6621 provides different interest rates applicable to overpayments: one for corporations and one for non-corporations.

The interest rates are based on the Federal short-term rate and determined by the Internal Revenue Service (IRS) on behalf of the Secretary of the Treasury on a quarterly basis. The rates effective for a quarter are determined during the first-month period of the previous quarter.

In Revenue Ruling 2023-22, the IRS determined the rates of interest for the calendar quarter beginning January 1, 2024, and ending on March 31, 2024. The interest rate paid to the Treasury for underpayments will be the Federal short-term rate (5%) plus three percentage points (3%) for a total of eight percent (8%) for both corporations and non-corporations. For overpayments made by non-corporations, the rate is the Federal short-term rate (5%) plus three percentage points (3%) for a total of eight percent (8%). For corporate overpayments, the rate is the Federal short-term rate (5%) plus two percentage points (2%) for a total of seven percent (7%). These interest rates used to calculate interest on overdue accounts (underpayments) and refunds (overpayments) of customs duties remain the same from the previous quarter. These interest rates are subject to change for the calendar quarter beginning April 1, 2024, and ending on June 30, 2024.

For the convenience of the importing public and U.S. Customs and Border Protection personnel, the following list of IRS interest rates used, covering the period from July of 1974 to date, to calculate interest on overdue accounts and refunds of customs duties, is published in summary format.

Beginning date | Ending date | Underpayments (percent) | Overpayments (percent) | Corporate overpayments (Eff. 1-1-99) (percent)
070174 | 063075 | 6 | 6 |
070175 | 013176 | 9 | 9 |
020176 | 013178 | 7 | 7 |
020178 | 013180 | 6 | 6 |
020180 | 013182 | 12 | 12 |
020182 | 123182 | 20 | 20 |
010183 | 063083 | 16 | 16 |
070183 | 123184 | 11 | 11 |
010185 | 063085 | 13 | 13 |
070185 | 123185 | 11 | 11 |
010186 | 063086 | 10 | 10 |
070186 | 123186 | 9 | 9 |
010187 | 093087 | 9 | 8 |
100187 | 123187 | 10 | 9 |
010188 | 033188 | 11 | 10 |
040188 | 093088 | 10 | 9 |
100188 | 033189 | 11 | 10 |
040189 | 093089 | 12 | 11 |
100189 | 033191 | 11 | 10 |
040191 | 123191 | 10 | 9 |
010192 | 033192 | 9 | 8 |
040192 | 093092 | 8 | 7 |
100192 | 063094 | 7 | 6 |
070194 | 093094 | 8 | 7 |
100194 | 033195 | 9 | 8 |
040195 | 063095 | 10 | 9 |
070195 | 033196 | 9 | 8 |
040196 | 063096 | 8 | 7 |
070196 | 033198 | 9 | 8 |
040198 | 123198 | 8 | 7 |
010199 | 033199 | 7 | 7 | 6
040199 | 033100 | 8 | 8 | 7
040100 | 033101 | 9 | 9 | 8
040101 | 063001 | 8 | 8 | 7
070101 | 123101 | 7 | 7 | 6
010102 | 123102 | 6 | 6 | 5
010103 | 093003 | 5 | 5 | 4
100103 | 033104 | 4 | 4 | 3
040104 | 063004 | 5 | 5 | 4
070104 | 093004 | 4 | 4 | 3
100104 | 033105 | 5 | 5 | 4
040105 | 093005 | 6 | 6 | 5
100105 | 063006 | 7 | 7 | 6
070106 | 123107 | 8 | 8 | 7
010108 | 033108 | 7 | 7 | 6
040108 | 063008 | 6 | 6 | 5
070108 | 093008 | 5 | 5 | 4
100108 | 123108 | 6 | 6 | 5
010109 | 033109 | 5 | 5 | 4
040109 | 123110 | 4 | 4 | 3
010111 | 033111 | 3 | 3 | 2
040111 | 093011 | 4 | 4 | 3
100111 | 033116 | 3 | 3 | 2
040116 | 033118 | 4 | 4 | 3
040118 | 123118 | 5 | 5 | 4
010119 | 063019 | 6 | 6 | 5
070119 | 063020 | 5 | 5 | 4
070120 | 033122 | 3 | 3 | 2
040122 | 063022 | 4 | 4 | 3
070122 | 093022 | 5 | 5 | 4
100122 | 123122 | 6 | 6 | 5
010123 | 093023 | 7 | 7 | 6
100123 | 033124 | 8 | 8 | 7

Dated: January 5, 2024.
Crinley S. Hoover,
Acting Chief Financial Officer, U.S. Customs and Border Protection.

[FR Doc. 2024-00389 Filed 1-10-24; 8:45 am]

BILLING CODE 9111-14-P